DEPARTMENT OF THE INTERIOR

National Park Service

[NPS-NCR-WHHO-22097; PPNCWHHO00, PPMPSPD1Z.YM0000]

Notice of Public Meeting and Request for Comments; The National Christmas Tree Lighting

AGENCY: National Park Service, Interior.

ACTION: Notice/request for public meeting and public comments.

SUMMARY: The National Park Service is seeking public comments and suggestions on the planning of the 2016 National Christmas Tree Lighting and the subsequent 31-day event. The general plan and theme for the event is the celebration of the holiday season with the display of the traditional American symbols of Christmas.

DATES: The meeting will be held on Friday, November 4, 2016. Written comments will be accepted until November 4, 2016.

ADDRESSES: The meeting will be held at 9:00 a.m. on November 4, 2016, in Room 234 of the National Capital Region Headquarters Building, at 1100 Ohio Drive SW., Washington, DC (East Potomac Park). Written comments may be sent to Peter Lonsway, Manager, President's Park, National Park Service, 1100 Ohio Drive SW., Washington, DC 20242. Due to delays in mail delivery, it is recommended that comments be provided by telefax at (202) 208-1643 or by email to Peter_Lonsway@nps.gov. Comments may also be delivered by messenger to the White House Visitor Center at 1450 Pennsylvania Avenue NW., in Washington, DC.

FOR FURTHER INFORMATION CONTACT: Peter Lonsway, Manager, President's Park, National Park Service, weekdays between 9 a.m., and 4 p.m., at (202) 208-1631.

SUPPLEMENTARY INFORMATION: The National Park Service is seeking public comments and suggestions on the planning of the 2016 National Christmas Tree Lighting and the subsequent 31-day event, which opens on December 1, 2016, on the Ellipse (President's Park), south of the White House. The general plan and theme for the event is the celebration of the holiday season, where the park visitor will have the opportunity to view that lighting of the National Christmas tree, attend musical presentations and visit the yuletide displays of the traditional and familiar American symbols of Christmas, a national holiday. As in the past, these traditional and familiar American symbols will be the National Christmas Tree, the smaller trees representing the various states, District of Columbia and the territories, various seasonal musical presentations, and a traditional crèche which is not owned by the Government.

In order to facilitate this process the National Park Service will hold a meeting at 9 a.m. on November 4, 2016, in Room 234 of the National Capital Region Headquarters Building, at 1100 Ohio Drive SW., Washington, DC (East Potomac Park).

Persons who would like to comment at the meeting should notify the National Park Service by November 4, 2016, by calling the White House Visitor Center weekdays between 9 a.m., and 4 p.m., at (202) 208-1631.

In addition, public comments and suggestions on the planning of the 2016 National Christmas Tree Lighting and the subsequent 31-day event may be submitted in writing. Written comments may be sent to the Manager, President's Park, National Park Service, 1100 Ohio Drive SW., Washington, DC 20242, and will be accepted until November 4, 2016. Before including your address, telephone number, email address, or other personal identifying information in your comment, be advised that your entire comment—including your personal identifying information—may be made publicly available at any time. While you may ask in your comment to withhold from public review your personal identifying information, we cannot guarantee that we will be able to do so.

Alma Ripps,
Chief, Office of Policy.

[FR Doc. 2016-25545 Filed 10-20-16; 8:45 am]

BILLING CODE 4312-52-P